FEDERAL COMMUNICATIONS COMMISSION

47 CFR Part 73

[DA 11-1689]

Radio Broadcasting Services; Various Locations

AGENCY: Federal Communications Commission.

ACTION: Final rule.

SUMMARY: The Audio Division, on its own motion, updates the FM Table of Allotments to reinstate certain vacant FM allotments. Formerly, the FM Table listed all vacant FM allotments as well as FM channels and communities occupied by authorized facilities. In 2006, the Commission removed the allotments of authorized and awarded FM facilities from the FM Table in order to accommodate the new application procedures for radio stations to change their communities of license. However, when an authorization is cancelled, the vacant allotment must be reinstated in the FM Table to preserve the opportunity to license a future station in the specified community. Accordingly, we are adding to the FM Table of Allotments thirty allotments in various communities that are considered vacant FM allotments.

DATES: Effective November 1, 2011.

ADDRESSES: Secretary, Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, adopted October 6, 2011, and released October 7, 2011. The full text of this Commission decision is available for inspection and copying during normal business hours in the FCC's Reference Information Center at Portals II, CY-A257, 445 12th Street, SW., Washington, DC 20554. This document may also be purchased from the Commission's duplicating contractors, Best Copy and Printing, Inc., 445 12th Street, SW., Room CY-B402, Washington, DC 20554, telephone 1 (800) 378-3160 or via email http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will not send a copy of this Order pursuant to the Congressional Review Act, see 5 U.S.C. 801(a)(1)(A), because these allotments were previously reported.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Amend § 73.202(b) Table of FM Allotments as follows:

a. Add Port Lions, under Alaska, Channel 221C0.

b. Add Dermott, under Arkansas, Channel 289A; Lake Village, Channel 278C3; and Pine Bluff, Channel 257A and Channel 267C3.

c. Add Willows, under California, Channel 292A.

d. Add Sanborn, under Iowa, Channel 264A.

e. Add Culver, under Indiana, Channel 252A.

f. Add Phillipsburg, under Kansas, Channel 237A.

g. Add Bunker, under Missouri, Channel 292C3 and Deerfield, Channel 264C3.

h. Add Cleveland, under Mississippi, Channel 225C2; Drew, Channel 237A; Mound Bayou, Channel 270A; and Vardaman, Channel 258A.

i. Add Alberton, under Montana, Channel 288C3.

j. Add Cloudcroft, under New Mexico, Channel 250C1 and Tularosa, Channel 274C3.

k. Add Medina, under North Dakota, Channel 222C and Sarles, Channel 290C1.

l. Add Alva, under Oklahoma, Channel 289C2.

m. Add Altamont, under Oregon, Channel 249C1 and Malin, Channel 263A.

n. Add Mission, under South Dakota, Channel 264A and Murdo, Channel 283A.

o. Add Byrdstown, under Tennessee, Channel 255A.

p. Add Cisco, under Texas, Channel 261C3; Giddings, Channel 240A; Santa Anna, Channel 288C3; Seymour, Channel 222C2; Shamrock, Channel 225C2.

q. Add Byron, under Wyoming, Channel 221C.

[FR Doc. 2011-27451 Filed 10-31-11; 8:45 am]

BILLING CODE 6712-01-P